DEPARTMENT OF VETERANS AFFAIRS

[OMB Control No. 2900—0741]

Proposed Information Collection (VA Subcontracting Report for Service Disabled Veteran-Owned Small Business and Veteran-Owned Small Business Concerns) Activity; Comment Request

AGENCY: Office of Small and Disadvantaged Business Utilization, Department of Veterans Affairs.

ACTION: Notice.

SUMMARY: The Office of Small and Disadvantaged Business Utilization (OSDBU), Department of Veterans Affairs (VA), is announcing an opportunity for public comment on the proposed collection of certain information by the agency. Under the Paperwork Reduction Act (PRA) of 1995, Federal agencies are required to publish notice in the Federal Register concerning each proposed collection of information, including each proposed extension, and allow 60 days for public comment in response to the notice. This notice solicits comments on information needed to collect information from subcontractors to compare information obtained from subcontracting plans submitted by prime contractors in order to determine the accuracy of the data reported by prime contractors.

DATES: Written comments and recommendations on the proposed collection of information should be received on or before November 13, 2012.

ADDRESSES: Submit written comments on the collection of information through the Federal Docket Management System (FDMS) at www.Regulations.gov; or Mark J. Taylor (00SB), Department of Veterans Affairs, 810 Vermont Avenue NW., Washington, DC 20420 or email: mark.taylor@va.gov. Please refer to “OMB Control No. 2900-0741” in any correspondence. During the comment period, comments may be viewed online through FDMS.

FOR FURTHER INFORMATION CONTACT: Mark Taylor at (202) 632-5514 or FAX (202) 632-5833.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, OSDBU invites comments on: (1) Whether the proposed collection of information is necessary for the proper performance of OSDBU's functions, including whether the information will have practical utility; (2) the accuracy of OSDBU's estimate of the burden of the proposed collection of information; (3) ways to enhance the quality, utility, and clarity of the information to be collected; and (4) ways to minimize the burden of the collection of information on respondents, including through the use of automated collection techniques or the use of other forms of information technology.

Title: VA Subcontracting Report for Service Disabled Veteran-Owned Small Business and Veteran-Owned Small Business Concerns, VA Form 0896a.

OMB Control Number: 2900-0741.

Type of Review: Extension.

Abstract: VA Form 0896a will be used to collect information from subcontractors to compare information obtained from subcontracting plans submitted by prime contractors in order to determine the accuracy of the data reported by prime contractors.

Affected Public: Business or other for-profit.

Estimated Annual Burden: 646 hours.

Estimated Average Burden per Respondent: 2 hours.

Frequency of Response: One time.

Estimated Number of Respondents: 323.

Dated: September 7, 2012.
By direction of the Secretary.
Denise McLamb,
Program Analyst, Enterprise Records Service.

[FR Doc. 2012-22488 Filed 9-12-12; 8:45 am]

BILLING CODE 8320-01-P